DEPARTMENT OF ENERGY

Availability of Draft Strategic Plan and Request for Public Comment

AGENCY: Office of Management, Budget and Evaluation/Chief Financial Officer, U.S. Department of Energy.

ACTION: Notice of Availability of Draft Strategic Plan and request for comment.

SUMMARY: This notice announces the availability of the Department of Energy's draft Strategic Plan. The Government Performance and Results Act of 1993 requires that federal agencies update their Strategic Plans every three years and, in doing so, solicit the views and suggestions of those entities potentially affected by or interested in the plan. Therefore, the Department is interested in receiving comments on our draft Strategic Plan.

DATES: Comments are due by September 11, 2003. If comments are received late, we will consider them to the extent practicable.

ADDRESSES: The draft Strategic Plan is available on the Department's homepage at http://www.doe.gov. You can provide your comments on-line directly through the Web site or by e-mail to StrategicPlan@hq.doe.gov. You can also send written comments or requests for a hard copy of the plan to: Dr. William G. Kennedy, U.S. Department of Energy, Office of Program Analysis and Evaluation, ME-20, 1000 Independence Avenue SW, Washington, DC 20585.

FOR FURTHER INFORMATION CONTACT: William Kennedy at (202) 586-0423.

SUPPLEMENTARY INFORMATION: The Department of Energy (DOE) was established in October 1977. Twenty-five years later, DOE has a budget of $23.4 billion, operates 24 research laboratories and facilities, four power administrations, employs 14,500 federal and 100,000 contractor employees, and manages the environmental cleanup from 50 years of nuclear defense activities that impacted two million acres in communities across the country. The Department has amassed tremendous scientific and technical capabilities serving America in ways never anticipated 25 years ago. Those capabilities will be applied to our overarching mission of ensuring the national security.

The Government Performance and Results Act (GPRA) requires that each federal agency update their strategic plan every three years, 5 U.S.C. 306, and submit their plan to the Congress. This draft Strategic Plan describes our mission, our strategic goals and strategies to achieve those goals over the next 20 years.

Public Participation Policy

It is the policy of the Department to ensure that public participation is an integral and effective part of DOE activities and that decisions are made with the benefit of significant public perspectives.

The Department recognizes the many benefits to be derived from public participation for both stakeholders and DOE. Public participation provides a means for DOE to gather a diverse collection of opinions, perspectives, and values from the broadest spectrum of the public, enabling the Department to make more informed decisions. Public participation benefits stakeholders by creating an opportunity to provide input on decisions that affect their communities and our nation.

We anticipate publishing the final Strategic Plan in October 2003 and making it available on the Internet at that time.

Issued in Washington, DC on August 6, 2003.
James T. Campbell,
Acting Director, Office of Management, Budget and Evaluation/Acting Chief Financial Officer.

[FR Doc. 03-20498 Filed 8-11-03; 8:45 am]

BILLING CODE 6450-01-P